DEPARTMENT OF THE INTERIOR

National Park Service

[NPS-WASO-NAGPRA-NPS0028298; PPWOCRADN0-PCU00RP14.R50000]

Notice of Inventory Completion: State University of New York at Oswego, Oswego, NY

AGENCY: National Park Service, Interior.

ACTION: Notice.

SUMMARY: The State University of New York at Oswego has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the State University of New York at Oswego. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the State University of New York at Oswego at the address in this notice by August 19, 2019.

ADDRESSES: Alanna Ossa, NAGPRA Coordinator, State University of New York at Oswego, 313 Mahar Hall, Department of Anthropology, Oswego, NY 13126, telephone (315) 312-4172, email alanna.ossa@oswego.edu.

SUPPLEMENTARY INFORMATION: Notice is here given in accordance with the Native American Graves Protection and Repatriation Act (NAGPRA), 25 U.S.C. 3003, of the completion of an inventory of human remains and associated funerary objects under the control of the State University of New York at Oswego, Oswego, NY. The human remains and associated funerary objects were removed from sites in St. Lawrence County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the SUNY Oswego professional staff in consultation with representatives of the Oneida Indian Nation (previously listed as the Oneida Nation of New York); Onondaga Nation; and the Saint Regis Mohawk Tribe (previously listed as the St. Regis Band of Mohawk Indians of New York) (hereafter referred to as “The Tribes”).

History and Description of the Remains

In 1967-1968, human remains representing, at minimum, one individual were removed from the Pine Hill site, located in the township of Gouverneur in St. Lawrence County, NY. The human remains were acquired by Peter Pratt during SUNY Oswego's archeology dig at the Pine Hill site, and were subsequently returned to the school. The human remains consist of one adult of indeterminate sex. No known individuals were identified. The 131 associated funerary artifacts are one chert projectile point, 14 decorated and plain pottery body sherds, four faunal bone tools including awls, 17 decorated pottery body sherds, seven unidentified faunal bones, two unidentified faunal bones, one faunal bone serrated point, one faunal bone serrated point, eight charcoal samples, one unidentified unworked shell, four decorated pottery body sherds, one chert projectile point, 50 unidentified faunal bones, two unidentified faunal bones, five unidentified faunal bones, one undecorated worked pottery sherd (disk with a hole), six decorated pottery body sherds, three unworked shell pieces, two unidentified faunal bones, and one “Hotel Ware” historic pottery body sherd.

The Pine Hill site includes a village habitation, fortification, and large midden dating to approximately A.D. 1400-1450. Some later historic materials also have been recovered from the site.

Determinations Made by the State University of New York at Oswego

Officials of the State University of New York at Oswego have determined that:

• Pursuant to 25 U.S.C. 3001(9), the human remains described in this notice represent the physical remains of one individual of Native American ancestry.

• Pursuant to 25 U.S.C. 3001(3)(A), the 131 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Alanna Ossa, NAGPRA Coordinator, State University of New York at Oswego, 313 Mahar Hall, Department of Anthropology, Oswego, NY 13126, telephone (315) 312-4172, email alanna.ossa@oswego.edu, by August 19, 2019. After that date, if no additional requestors have come forward, transfer of control of the human remains and associated funerary objects to The Tribes may proceed.

The State University of New York at Oswego is responsible for notifying The Tribes that this notice has been published.

Dated: June 25, 2019.
Melanie O'Brien,
Manager, National NAGPRA Program.

[FR Doc. 2019-15439 Filed 7-18-19; 8:45 am]

BILLING CODE 4312-52-P